DEPARTMENT OF HEALTH AND HUMAN SERVICES

Centers for Disease Control and Prevention

[60Day-10-10BA]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Development and Testing of an HIV Prevention Intervention Targeting Black Bisexually-Active Men—new—National Center for HIV/AIDS, Viral Hepatitis, STD and TB Prevention (NCHHSTP), Centers for Disease Control and Prevention (CDC).

Background and Brief Description

African Americans continue to be disproportionately affected by HIV/AIDS. Results from the National HIV Behavioral Surveillance Project published in the June 2006 Morbidity and Mortality Weekly Reports showed that during 2001-2004, although African-Americans accounted for approximately 13 percent of the population, they accounted for the majority (51 percent) of HIV/AIDS diagnoses in 33 states. Black men who have sex with men (MSM) have been identified as the population segment with the highest rates of HIV infection in the U.S. and as a population in need of new HIV prevention interventions. Previous research indicates that 20% to 40% of Black MSM also have female sex partners. Interventions developed for gay men may not be relevant or appropriate for men who have sex with men and women (MSMW), many of whom do not self-identify as gay and who may need different prevention strategies for their male and female partners. No interventions in the scientific literature with demonstrated efficacy in reducing HIV-related sexual risk behaviors have been developed and evaluated specifically for African-American MSMW. The proposed study is essential for developing effective HIV/AIDS prevention interventions for at-risk African-American MSMW and for informing policies and programs that will more effectively protect them and their partners from infection.

The purpose of the proposed study is to develop and pilot-test three novel behavioral interventions to reduce sexual risk for HIV infection and transmission among African-American MSMW who do not inject drugs. Eligible respondents will be recruited using chain referral sampling techniques. Three study sites (Public Health Management Corporation (PHMC), Nova Southeastern University, and California State University (CSU) at Dominguez Hills) will use a randomized controlled trial to evaluate the effectiveness of the intervention. Respondents will be reimbursed up to a total of $300 for their time and for completing all data collection forms. If these interventions are found to be effective, organizations that implement risk-reduction interventions will be able to use the curricula to intervene with this population more successfully. Ultimately, the beneficiary of this data collection will be African-American MSMW at risk for HIV. There is no cost to respondents other than their time.

Estimate of Annualized Burden Table
Type of respondent | Form name | Number of respondents | Number of responses per respondent | Average burden per response (in hours) | Total annual burden (in hours)
Prospective Participant | Screening Instrument | 1,250 | 1 | 5/60 | 104
Enrolled Participant | Locator Form | 750 | 1 | 10/60 | 125
Enrolled Participant-PHMC | Baseline Assessment | 250 | 1 | 1 | 250
Enrolled Participant-Nova | Baseline Assessment | 240 | 1 | 1 | 240
Enrolled Participant-CSU | Baseline Assessment | 260 | 1 | 1 | 260
Enrolled Participant-PHMC | Acceptability Survey | 250 | 6 | 10/60 | 250
Enrolled Participant-Nova | Acceptability Survey | 240 | 1 | 10/60 | 40
Enrolled Participant-CSU | Acceptability Survey | 260 | 1 | 10/60 | 43
Enrolled Participant-PHMC | Immediate Follow-Up Assessment | 225 | 1 | 30/60 | 113
Enrolled Participant-Nova | Immediate Follow-Up Assessment | 216 | 1 | 30/60 | 108
Enrolled Participant-CSU | Immediate Follow-Up Assessment | 234 | 1 | 30/60 | 117
Enrolled Participant-PHMC | 3 month Follow-Up Assessment | 200 | 1 | 1 | 200
Enrolled Participant-Nova | 3 month Follow-Up Assessment | 192 | 1 | 1 | 192
Enrolled Participant-CSU | 3 month Follow-Up Assessment | 208 | 1 | 1 | 208
Total |  |  |  |  | 2,250

Dated: January 20, 2010.
Maryam I. Daneshvar,
Acting Reports Clearance Officer, Centers for Disease Control and Prevention.

[FR Doc. 2010-1650 Filed 1-26-10; 8:45 am]

BILLING CODE 4163-18-P